DEPARTMENT OF ENERGY

Federal Energy Regulatory Commission

[Project No. 1864-079-MI & WI]

Upper Peninsula Power Company; Notice of Availability of Environmental Assessment

April 22, 2008.

In accordance with the National Environmental Policy Act of 1969 and the Federal Energy Regulatory Commission's regulations, 18 CFR Part 380 (Order No. 486, 52 FR 47879), the Office of Energy Projects has reviewed the proposed lake level amendment for the bond Falls Project, located in the Ontonagon River Basin in Ontonagon and Gogebic Counties, Michigan and Vilas County, Wisconsin, and has prepared a Draft Environmental Assessment (Draft EA).

A copy of the Draft EA is on file with the Commission and is available for public inspection. The Draft EA may also be viewed on the Commission's Web site at http://www.ferc.gov using the “eLibrary” link. Enter the docket number (P-1864) excluding the last three digits in the docket number field to access the document. For assistance, contact FERC Online Support at FERCOnlineSupport@ferc.gov or toll-free at 1-866-208-3676, or for TTY, (202) 502-8659.

Any comments should be filed by May 27, 2008, and should be addressed to the Secretary, Federal Energy Regulatory Commission, 888 First Street, NE., Room 1-A, Washington, DC 20426. Please reference the project name and project number (P-1864) on all comments. Comments may be filed electronically via Internet in lieu of paper. The Commission strongly encourages electronic filings. See 18 CFR 385.2001(a)(1)(iii) and the instructions on the Commission's Web site under the “eFiling” link. For further information, contact Monica Maynard at (202) 502-6013.

Kimberly D. Bose,
Secretary.

[FR Doc. E8-9298 Filed 4-28-08; 8:45 am]

BILLING CODE 6717-01-P